DEPARTMENT OF TRANSPORTATION

Federal Motor Carrier Safety Administration

[Docket No. FMCSA-2017-0133]

Commercial Driver's License (CDL): Application for Exemption Renewal; U.S. Custom Harvesters, Inc.

AGENCY: Federal Motor Carrier Safety Administration (FMCSA), Department of Transportation (DOT).

ACTION: Notice of final disposition; renewal of exemption.

SUMMARY: FMCSA announces its final decision to renew the U.S. Custom Harvesters, Inc. (USCHI) exemption from the intrastate restriction (“K”) on commercial driver's licenses (CDLs) for custom harvester drivers operating in interstate commerce for a two-year period, with additional terms and conditions. FMCSA's regulations currently provide an exception to the minimum age requirements for drivers of commercial motor vehicles (CMVs) engaged in custom harvesting operations in interstate commerce. However, under the Agency's CDL regulations, States may impose an intrastate-only (or “K”) restriction for these drivers. On October 11, 2023, FMCSA announced its decision to provisionally renew USCHI's exemption for two years, pending a review of any comments received in response to that notice. After reviewing the four comments submitted to the docket, which are discussed later in this notice, the Agency believes that drivers who qualify for the exemption will likely achieve a level of safety that is equivalent to, or greater than, the level of safety that would be achieved by complying with the “K” restriction.

DATES: This renewed exemption became effective October 3, 2023, and continues through October 3, 2025.

FOR FURTHER INFORMATION CONTACT: La Tonya Mimms, Chief, Driver and Carrier Operations Division; Office of Carrier, Driver and Vehicle Safety Standards, FMCSA; (202) 366-9220; latonya.mimms@dot.gov. If you have questions on viewing material to the docket, contact Dockets Operations at (202) 366-9826.

SUPPLEMENTARY INFORMATION:

I. Public Participation; Viewing Comments and Documents

To view comments, go to www.regulations.gov, insert the docket number “(FMCSA-2017-0133)” in the keyword box, and click “Search.” Next, sort the results by “Posted (Newer-Older),” choose the first notice listed, and click “Browse Comments.”

To view documents mentioned in this notice as being available in the docket, go to www.regulations.gov, insert the docket number “FMCSA-2017-0133” in the keyword box, click “Search,” and choose the document to review.

If you do not have access to the internet, you may view the docket online by visiting Dockets Operations on the ground floor of the DOT West Building, 1200 New Jersey Avenue SE, Washington, DC 20590, between 9 a.m. and 5 p.m., ET, Monday through Friday, except Federal holidays. To be sure someone is there to help you, please call (202) 366-9317 or (202) 366-9826 before visiting Dockets Operations.

II. Legal Basis

FMCSA has authority under 49 U.S.C. 31136(e) and 31315(b) to grant exemptions from Federal Motor Carrier Safety Regulations (FMCSRs). FMCSA must publish a notice of each exemption request in the Federal Register (49 CFR 381.315(a)). The Agency must provide the public an opportunity to inspect the information relevant to the application, including the applicant's safety analyses. The Agency must provide an opportunity for public comment on the request.

The Agency reviews safety analyses and public comments submitted and determines whether granting the exemption would likely maintain a level of safety equivalent to, or greater than, the level that would be achieved by the current regulation (49 CFR 381.305(a)). The Agency must publish its decision in the Federal Register (49 CFR 381.315(b)). If granted, the notice will identify the regulatory provision(s) from which the applicant will be exempt, the effective period, and all terms and conditions of the exemption (49 CFR 381.315(c)(1)). If the exemption is denied, the notice will explain the reasons for the denial (49 CFR 381.315(c)(2)).

III. Background

Current Regulatory Requirements

The Federal Highway Administration adopted section 391.2(a) of title 49 of the Code of Federal Regulations (CFR) on December 22, 1971 (36 FR 24218). Under this provision, drivers of CMVs operated by a person engaged in custom harvesting are exempt from all of part 391, including the requirement to be at least 21 years of age to operate a CMV in interstate commerce. State Driver Licensing Agencies (SDLAs) issue a “K” restriction on drivers who are under the age of 21 to permit these drivers to operate a CMV within the issuing State only. Section 391.2(a) does not preempt State CDL regulations, such as the requirement in 49 CFR 383.23(a)(2) to “[possess] a CDL which meets the standards contained in subpart J of this part,” including any “K” restriction imposed under 49 CFR 383.153(a)(10)(vii) of subpart J.

Original Exemption

On October 3, 2018, FMCSA published a notice granting USCHI an exemption from 49 CFR 383.23(a)(2) and 49 CFR 383.153(a)(10)(vii) for a period of five years; the exemption expired on October 3, 2023 (83 FR 49977). In its 2018 decision, FMCSA noted that although it was granting the exemption, the exemption “did not require any special action or processing” by the SDLAs who would continue to place the “K” restriction when called for, but enforcement officers would disregard it in situations involving drivers who can demonstrate eligibility for the custom harvester exemption set forth in 49 CFR 391.2(a).

Application for Renewal of Exemption

USCHI requested a renewal of its exemption for a five-year period. USCHI stated that it frequently employs drivers younger than 21 years of age, who are issued CDLs with a “K” restriction. Under an exception in place since 1971, the requirement that CMV drivers must be at least 21-years old does not apply to a CMV driver who drives a CMV while engaged in custom-harvesting operations, provided that certain conditions are met (49 CFR 391.2(a)). Under the exemption, drivers under 21 are therefore allowed to drive in interstate custom harvesting operations, notwithstanding the “K” restriction on their licenses.

USCHI states that, even though CMV drivers engaged in custom harvesting are excepted from the 21-year-old requirement, they are frequently cited during roadside inspections because of the presence of the “K” restriction on their licenses. USCHI states that this issue negatively impacts the safety records of drivers and employers.

USCHI asks the Agency to renew its exemption for another five-year period, subject to terms and conditions, that would allow law enforcement officers to determine that the driver is operating in custom harvester operations. For example, USCHI proposes that the driver be required to provide at least three methods of verification while en route. A copy of USCHI's request for an exemption renewal is available for review in the docket for this notice.

IV. Provisional Renewal of Exemption

On October 11, 2023, after review of USCHI's renewal application, FMCSA published its decision to provisionally grant a two-year renewal of the exemption effective October 3, 2023, through October 3, 2025, and requested public comment (88 FR 70431). The Agency makes that renewal final for the remainder of the two-year period.

The October 11 notice of provisional renewal announced terms and conditions that applied to operations for the first 90 days after the notice and, separately, certain replacement or additional requirements that would apply beginning 90 days later, i.e., after January 9, 2024 (88 FR at 70433). Today's notice supersedes the October 11, 2023, notice and finalizes the provisionally granted two-year exemption, through October 3, 2025.

V. Public Comments

Four comments were submitted to the docket, all in support of renewing the exemption. USCHI acknowledged the terms and conditions in the exemption renewal, stating “USCHI understands the required and critical need to achieve a level of safety equivalent to, or greater than, the level that would be achieved by the currently (sic) regulation under this exemption.” USCHI also contended that its members operate with the utmost regard for safety and responsibility, stating that USCHI members “provide additional mentorship and on the job training for younger drivers once they receive their CDL. USCHI also hosts multiple safety events for its members each year.” Heil Harvesting, LLC's supporting comment emphasized the need for the exemption stating that “[w]orkers to help harvest the nation's crops are increasingly difficult to locate and hire, and eliminating drivers younger than age 21 from the employee pool creates a severe hardship for harvesters' businesses.” Beau Froese said “[w]e travel through Texas, Oklahoma, Kansas, Colorado and Nebraska and would have a serious problem meeting the harvesting needs of the producers that we serve were we unable to use 18, 19 and 20 year old drivers.” Lastly, Mychal Neumiller provided the following supporting statement: “[o]ur business spends many hours training young employees on back roads and around our farm before allowing any of them to get on the road with us. Without these young people, most harvesters wouldn't be able to get the crops out of the fields for our farmers.”

VI. Response to Public Comments and Agency Decision

FMCSA has evaluated the public comments and now issues this final decision affirming its provisional decision to renew the exemption for a two-year period. USCHI fulfilled the 30-day requirement of the provisional exemption's terms and conditions and has provided a list of USDOT numbers of the motor carriers that will be operating under this exemption; this list is available in the docket. FMCSA is not aware of any evidence showing that allowing the exemption from the intrastate-only “K” restriction has resulted in any degradation in safety. Interstate operations for non-CDL custom harvester drivers younger than 21 are currently allowed pursuant to 49 CFR 391.2(a), and intrastate operations for CDL custom harvester drivers under the age of 21 can be accomplished under 49 CFR 383.23(a)(2) and 383.153(a)(10)(vii).

The Agency notes that, likely through miscommunications and misunderstandings among the Agency, USCHI, and its membership, certain crashes involving the drivers operating under the exemption were not reported to the Agency during the first five-year exemption. FMCSA's review of USCHI members' data indicates there have been crashes that could be considered preventable. The Agency obtained 14 police crash reports involving custom harvester operators under the age of 21. However, given the five-year period of the previous exemption, the size of USCHI's membership,¹ and a lack of information on the age peer group within the agricultural driver population as a baseline, the Agency does not find sufficient information to conclude that the previous 5-year exemption resulted in a degradation of safety.

¹ USCHI's website indicates they have approximately 420 Regular members and 180 Associate members.

Nevertheless, as a safety precaution, FMCSA is extending the exemption for two years instead of the requested five years and enhancing the terms and conditions of the exemption to assist the Agency's oversight. Under the modified exemption, custom harvester drivers will likely maintain a level of safety that is equivalent to, or greater than, the level of safety that would be achieved without the exemption.

During the two-year period of the extended exemption, in addition to enhancing the terms and conditions of the exemption, FMCSA will initiate a data analysis project to examine the safety performance of custom harvester drivers under the age of 21, in comparison to other drivers in the agriculture sector of the motor carrier industry. The data collection for this project has been initiated, and FMCSA has begun analyzing the data as referenced in the provisional exemption notice. The Agency currently has violation data on motor carriers that utilize the transportation of agricultural commodities exception to the hours-of-service rules, and the new study will assist the Agency in conducting a more in-depth analysis of their safety performance as a group and the safety performance of the subset of custom harvester drivers under the age of 21. This information will aid in assessing the safety impacts of the USCHI exemption prior to the expiration of the two-year renewal.

VII. Exemption Decision

A. Grant of Two-Year Exemption

FMCSA renews the exemption for a period of two years, subject to the terms and conditions of this decision. The exemption from the “K” intrastate restriction on CDLs held by custom harvester drivers operating in interstate commerce is otherwise effective October 3, 2023, through October 3, 2025, at 11:59 p.m. local time, unless renewed or rescinded.

B. Applicability of Exemption

Custom Harvester Drivers

Custom harvester drivers under 21 years of age will be able to display this exemption notice to help explain that when operating in that capacity, they are permitted to operate outside the State issuing their CDL even though the license has a “K” (intrastate only) restriction.

Enforcement Officers

This exemption notice will explain to law enforcement officers that 49 CFR 391.2(a) authorizes custom harvester drivers to operate in interstate commerce even though they are under 21 years of age. The notice will explain that a “K” restriction on these drivers' CDLs does not limit them from driving outside the CDL-issuing State when they are operating as custom harvesters in accordance with 49 CFR 391.2(a) and this exemption.

State Driver Licensing Agencies

This exemption requires no action or inaction on the part of the SDLAs. They will continue to issue CDLs with a “K” restriction to drivers under the age of 21.

C. Terms and Conditions

Motor carriers and drivers operating under the exemption are subject to the following terms and conditions:

(1) Drivers engaged in custom harvesting operations in interstate commerce shall be exempt from any intrastate-only “K” restriction on their CDLs when operating under the provisions of this exemption.

(2) Drivers must have a copy of this notice in their possession while operating under the terms of the exemption. The exemption document must be presented to law enforcement officials upon request.

(3) Drivers to whom this exemption applies are identified in 49 CFR 391.2(a) as those operating a CMV to transport farm machinery, supplies, or both, to or from a farm for custom harvesting operations on a farm; or transporting custom-harvested crops to storage or market.

(4) To ensure that the drivers are legitimately operating as a custom harvester, they should be able to provide at least three of the following methods of verification:

(a) The driver may have on hand a valid custom harvesting document such as a current-date agricultural commodity scale sheet, a current-date custom harvesting load sheet, an official company document stating the company's purpose, etc.;

(b) The CMV may have license plates specific to custom, or the verbiage “Harvesting” may be part of the business signage on the vehicle;

(c) The CMV may be designed to haul a harvested agricultural commodity or equipment for harvesting or be a support vehicle for custom-harvesting operations, such as a service truck;

(d) The CMV may be hauling a harvested agricultural commodity or equipment for the purpose of custom harvesting;

(e) The CMV may have a newly harvested commodity or remnants on board;

(f) The driver will be able to provide a verifiable location of the current harvesting operation or delivery location for a harvested commodity.

(5) The USCHI must provide FMCSA with a list of motor carrier USDOT numbers that are engaged in custom farm operations every 90 days. The driver must be working for a motor carrier with a USDOT number identified in the most current list provided to FMCSA by USCHI. See additional FMCSA notification requirements in Section VII.E below. This exemption applies to USCHI members only.

D. Preemption

In accordance with 49 U.S.C. 31315(d), as implemented by 49 CFR 381.600, during the period this exemption is in effect, no State shall enforce any law or regulation applicable to interstate commerce that conflicts with or is inconsistent with this exemption with respect to a firm or person operating under the exemption. States may, but are not required to, adopt the same exemption with respect to operations in intrastate commerce.

E. Notification to FMCSA

Starting in May of 2024 and every 90 days thereafter, USCHI must provide FMCSA with the USDOT numbers of the motor carriers that will be operating under this exemption. The USCHI must notify FMCSA within five business days of any crash (as defined in 49 CFR 390.5), involving any of the drivers operating under the terms of the exemption. The notification must include the following information:

(a) Identity of Exemption: “USCHI Renewal,”

(b) Name of the custom harvester employer and USDOT number,

(c) Date of the crash,

(d) Origin and intended destination of the USCHI driver's trip and the distance (in miles) of the crash from the driver's home terminal,

(e) Driver's name, license number, and age,

(f) Vehicle number and State license number,

(g) Number of individuals suffering physical injury

(h) Number of fatalities,

(i) The police-reported circumstances of the crash,

(j) Whether the driver was cited for violation of any traffic laws or motor carrier safety regulations,

(k) The driver's total driving time and total on-duty time period prior to the accident,

(l) Information about what safety training, if any, was provided to drivers operating under this exemption after the driver obtained a CDL, and

(m) A scanned copy of the police accident report.

Reports filed under this provision shall be emailed to MCPSD@DOT.GOV.

F. Termination

The exemption will be rescinded if: (1) the USCHI, motor carriers, and drivers operating under the exemption fail to comply with the terms and conditions of the exemption; (2) the exemption has resulted in a lower level of safety than was maintained before it was granted; or (3) continuation of the exemption would not be consistent with the goals and objects of 49 U.S.C. 31136(e) and 31315.

Should FMCSA receive notice of any potential adverse safety impacts, FMCSA will take all steps necessary to protect the public interest, including revocation or restriction of the exemption if necessary. FMCSA may immediately revoke or restrict the exemption for failure to comply with its terms and conditions.

Sue Lawless,
Acting Deputy Administrator.

[FR Doc. 2024-13323 Filed 6-17-24; 8:45 am]

BILLING CODE 4910-EX-P